DEPARTMENT OF ENERGY

Federal Energy Regulatory Commission

Combined Notice of Filings #1

April 28, 2010.

Take notice that the Commission received the following electric rate filings:

Docket Numbers: ER00-1053-022; ER09-1305-001.

Applicants: Maine Public Service Company.

Description: Maine Public Service Company submits the revised Open Access Transmission Tariff pages and a Settlement Agreement re the Formula Rate and 2009 Informational Filing.

Filed Date: 04/27/2010.

Accession Number: 20100428-0201.

Comment Date: 5 p.m. Eastern Time on Tuesday, May 18, 2010.

Docket Numbers: ER06-733-007.

Applicants: Midland Cogeneration Venture Limited Partnership.

Description: Midland Cogeneration Venture Limited Partnership Supplement to Notice of Non-Material Change in Status.

Filed Date: 04/27/2010.

Accession Number: 20100427-5169.

Comment Date: 5 p.m. Eastern Time on Tuesday, May 18, 2010.

Docket Numbers: ER10-956-001.

Applicants: Vantage Wind Energy LLC.

Description: Vantage Wind Energy LLC submits supplement to the market-based rate application it filed with the FERC on 3/30/10.

Filed Date: 04/27/2010.

Accession Number: 20100427-0217.

Comment Date: 5 p.m. Eastern Time on Tuesday, May 18, 2010.

Docket Numbers: ER10-982-002.

Applicants: New York Independent System Operator, Inc.

Description: ISO New York Independent System Operator submits additional formatting changes.

Filed Date: 04/27/2010.

Accession Number: 20100427-0213.

Comment Date: 5 p.m. Eastern Time on Friday, May 7, 2010.

Docket Numbers: ER10-1005-002.

Applicants: New York Independent System Operator, Inc.

Description: New York Independent System Operator, Inc submits an errata to its 4/2/10 filing under ER10-1005.

Filed Date: 04/27/2010.

Accession Number: 20100427-0214.

Comment Date: 5 p.m. Eastern Time on Tuesday, May 18, 2010.

Docket Numbers: ER10-1103-000.

Applicants: AmerenEnergy Medina Valley Cogen, L.L.C.

Description: AmerenEnergy Medina Valley Cogen, L.L.C. submits tariff filing per 35.12: Baseline—AmerenEnergy Medina Valley Tariff to be effective 4/28/2010.

Filed Date: 04/27/2010.

Accession Number: 20100427-5119.

Comment Date: 5 p.m. Eastern Time on Tuesday, May 18, 2010.

Docket Numbers: ER10-1104-000.

Applicants: Mint Energy, LLC.

Description: Mint Energy, LLC submits tariff filing per 35.12: Rate Schedule FERC No.1 to be effective 6/26/2010.

Filed Date: 04/27/2010.

Accession Number: 20100427-5125.

Comment Date: 5 p.m. Eastern Time on Tuesday, May 18, 2010.

Docket Numbers: ER10-1105-000.

Applicants: Pacific Gas and Electric Company.

Description: Pacific Gas and Electric Company submits tariff filing per 35.12: Baseline Filing of PG&E's TO Tariff to be effective 4/27/2010.

Filed Date: 04/27/2010.

Accession Number: 20100427-5129.

Comment Date: 5 p.m. Eastern Time on Tuesday, May 18, 2010.

Docket Numbers: ER10-1106-000.

Applicants: Pacific Gas and Electric Company.

Description: Pacific Gas and Electric Company submits tariff filing per 35.12: Baseline Filing for its Grid Management Charge Pass-Through Tariff, FERC Electric Tariff, Volume 11, to be effective 4/28/2010.

Filed Date: 04/28/2010.

Accession Number: 20100428-5005.

Comment Date: 5 p.m. Eastern Time on Wednesday, May 19, 2010.

Docket Numbers: ER10-1107-000.

Applicants: Pacific Gas and Electric Company.

Description: Pacific Gas and Electric Company submits tariff filing per 35: Compliance Baseline Filing of its Market-Based Rate Tariff, FERC Electric Tariff, Volume 13, to be effective 4/28/2010.

Filed Date: 04/28/2010.

Accession Number: 20100428-5007.

Comment Date: 5 p.m. Eastern Time on Wednesday, May 19, 2010.

Docket Numbers: ER10-1108-000.

Applicants: Affordable Power, L.P.

Description: Affordable Power, L.P. submits Notice of Cancellation of its market-based rate tariff, Rate Schedule FERC 1.

Filed Date: 04/27/2010.

Accession Number: 20100428-0204.

Comment Date: 5 p.m. Eastern Time on Tuesday, May 18, 2010.

Docket Numbers: ER10-1109-000.

Applicants: Eagle Creek Hydro Power, LLC.

Description: Eagle Creek Hydro Power, LLC submits Application for market-based rate authority request for waivers and pre-approvals, and request for finding of qualification as Category 1.

Filed Date: 04/27/2010.

Accession Number: 20100428-0203.

Comment Date: 5 p.m. Eastern Time on Tuesday, May 18, 2010.

Docket Numbers: ER10-1110-000.

Applicants: Mint Energy, LLC.

Description: Mint Energy, LLC submits tariff filing per 35.12: Rate Schedule FERC No. 1 to be effective6/26/2010.

Filed Date: 04/28/2010.

Accession Number: 20100428-5012.

Comment Date: 5 p.m. Eastern Time on Wednesday, May 19, 2010.

Docket Numbers: ER10-1111-000.

Applicants: American Electric Power Service Corporation.

Description: AEP Texas Central Company submits an amended and restated transmission interconnection agreement, etc.

Filed Date: 04/28/2010.

Accession Number: 20100428-0207.

Comment Date: 5 p.m. Eastern Time on Wednesday, May 19, 2010.

Docket Numbers: ER10-1112-000.

Applicants: Southern California Edison Company.

Description: Southern California Edison Company submits Standard Large Generator Interconnection Agreement among Alta Windpower Development, LLC et al.

Filed Date: 04/28/2010.

Accession Number: 20100428-0210.

Comment Date: 5 p.m. Eastern Time on Wednesday, May 19, 2010.

Docket Numbers: ER10-1113-000.

Applicants: Pacific Gas and Electric Company.

Description: Pacific Gas and Electric Company submits tariff filing per 35.12: Baseline Filing of PG&E's WD Tariff to be effective 4/28/2010.

Filed Date: 04/28/2010.

Accession Number: 20100428-5110.

Comment Date: 5 p.m. Eastern Time on Wednesday, May 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-10503 Filed 5-4-10; 8:45 am]

BILLING CODE 6717-01-P